FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010955-007.

Title: ACL/H-L Reciprocal Space Charter and Sailing Agreement.

Parties: Atlantic Container Line AB and Hapag-Lloyd Container Linie GmbH.

Filing Party: Wayne R. Rohde, Esq.; Sher & Blackwell; 1850 M Street, NW., Suite 900; Washington, DC 20036.

Synopsis: The amendment deletes authority for the parties to discuss and agree on tariff rates.

Agreement No.: 011527-010.

Title: East Coast Americas Service.

Parties: Hanjin Shipping Co., Ltd.; Kawasaki Kisen Kaisha, Ltd.; Mitsui O.S.K. Lines, Ltd.; and Zim Integrated Shipping Services, Ltd.

Filing Party: Howard A. Levy, Esq.; 120 Wall Street; Suite 2020; New York, NY 10005-4001 Synopsis: The proposed modification would delete Article 5.13 providing for rate discussion/voluntary agreement authority and redesignate Article 5.14 as 5.13.

Agreement No.: 011852-016.

Title: Maritime Security Discussion Agreement.

Parties: China Shipping Container Lines, Co., Ltd.; CMA CGM, S.A.; COSCO Container Lines Company, Ltd.; Hanjin Shipping Company, Ltd.; Hyundai Merchant Marine Co., Ltd.; Kawasaki Kisen Kaisha, Ltd.; Nippon Yusen Kaisha; Yang Ming Marine Transport Corp.; Zim Integrated Shipping Services, Ltd.; Alabama State Port Authority; APM Terminals North America, Inc.; Ceres Terminals, Inc.; Cooper/T. Smith Stevedoring Co., Inc.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority; P&O Ports North America, Inc.; Port of Tacoma; South Carolina State Ports Authority; Stevedoring Services of America, Inc.; Trans Bay Container Terminal, Inc.; TraPac Terminals; Universal Maritime Service Corp.; Virginia International Terminals; and Yusen Terminals, Inc.

Filing Parties: Carol N. Lambos; Lambos & Junge; 29 Broadway, 9th Floor; New York, NY 10006 and Charles T. Carroll, Jr.; Carroll & Froelich, PLLC; 2011 Pennsylvania Avenue, NW.; Suite 301; Washington, DC 20006.

Synopsis: The amendment deletes Metropolitan Stevedore Co. as a member to the agreement.

Agreement No.: 011895.

Title: Crowley/Maersk Sealand Trinidad Space Charter Agreement.

Parties: A.P. Moller-Maersk A/S trading as Maersk Sealand (“Maersk”) and Crowley Liner Service, Inc. (“Crowley”).

Filing Party: Arthur F. Mead, III, Esq.; Crowley Maritime Corporation; 9487 Regency Square Boulevard N.; Jacksonville, FL 32225.

Synopsis: The agreement authorizes Maersk to take space on Crowley's service between Port Lisas, Trinidad, and Port Everglades/Jacksonville, Florida.

By Order of the Federal Maritime Commission.
Dated: January 7, 2005.
Bryant L. VanBrakle,
Secretary.

[FR Doc. 05-647 Filed 1-11-05; 8:45 am]

BILLING CODE 6730-01-P